DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) published the name of one individual and one entity that has been placed on OFAC's Specially Designated Nationals and Blocked Persons List (SDN List) based on OFAC's determination that one or more applicable legal criteria were satisfied. All property and interests in property subject to U.S. jurisdiction of this individual and entity are blocked, and U.S. persons are generally prohibited from engaging in transactions with this individual and entity.

DATES: This action was issued on March 5, 2025. See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On March 5, 2025, OFAC determined that the property and interests in property subject to U.S. jurisdiction of the following individual and entity are blocked under the relevant sanctions authority listed below.

BILLING CODE 4810-AL-P

Designated pursuant to section 1(a)(iii)(D) of Executive Order 13694, as further amended, for being owned or controlled by, or having acted or purported to act for or on behalf of, directly or indirectly, any person whose property and interests in property are blocked pursuant to E.O. 13694, as further amended, or that has engaged in any activity describer in subsections (a)(ii) or (a)(iii)(A)-(C) of section 1 of E.O. 13694, as further amended.

Lisa M. Palluconi,
Acting Director, Office of Foreign Assets Control.

[FR Doc. 2025-03819 Filed 3-10-25; 8:45 am]

BILLING CODE 4810-AL-C